ENVIRONMENTAL PROTECTION AGENCY

[ER-FRL-6657-2]

Environmental Impact Statements and Regulations; Availability of EPA Comments

Availability of EPA comments prepared pursuant to the Environmental Review Process (ERP), under Section 309 of the Clean Air Act and Section 102(2)(c) of the National Environmental Policy Act, as amended. Requests for copies of EPA comments can be directed to the Office of Federal Activities at (202) 564-7167.

An explanation of the ratings assigned to draft environmental impact statements (EISs) was published in FR dated April 2, 2004 (69 FR 17403).

Draft EISs

ERP No. D-NAS-K11114-HI Rating EC2, Outrigger Telescopes Project, Proposed for the W.M. Keck Observatory Site within the Mauna Kea Science Reserve, Funding, Construction, Installation and Operation, Island of Hawaii.

Summary: EPA expressed concerns about the cumulative impacts to native Hawaiian cultural resources, visual resources, and species impacts, and asked for more information supporting the selection of the proposed alternative.

ERP No. D-NOA-K91013-HI Rating EC2, Seabird Interaction Mitigation Methods, To Reduce Interaction with Seabird in Hawaii-Based Longline Fishery and Pelagic Squid Fishery Management, To Establish an Effective Management Framework for Pelagic Squid Fisheries, Fishery Management Plan, Pelagic Fisheries of the Western Pacific Region, Exclusive Economic Zone of the U.S. and High Sea.

Summary: EPA expressed concerns over the impacts to seabirds associated with the preferred alternative, and requested more information on the effects of the newly-established U.S. squid fishery of protected species.

ERP No. D-NOA-L91025-00 Rating EC2, 2005-2006 Pacific Coast Groundfish Fishery, Proposed Acceptable Biological Catch and Optimum Yield Specifications and Management Measures, WA, OR and CA.

Summary: EPA expressed concerns about projected exceedences for optimum yields for canary and widow rockfish, impacts on essential fish habitat, and the need to increase observer coverage for better accounting of bycatch.

ERP No. D-NOA-L99010-AK Rating LO, Pribilof Islands Setting for the Annual Subsistence Harvest of Northern Fur Seals, To Determine and Publish the Take Ranges, Pribilof Islands, AK.

Summary: EPA does not object to the proposed harvest levels or their associated impacts.

ERP No. DS-TPT-K61154-CA Rating LO, Presidio Trust Public Health Service Hospital (PUSH or Building 1801) at the Presidio of San Francisco (Area B) of Presidio Trust Management Plan, To Rehabilitate and Reuse Buildings, Gold Gate National Recreation Area, San Francisco Bay, Marin County, CA.

Summary: EPA had a lack of objections to the project as proposed.

Final EISs

ERP No. F-AFS-J65375-MT Sheep Creek Range Analysis, Grazing and Special Use Allotments Reorganization, Grazing and Special Use Permits Issuance, Lewis and Clark National Forest, White Sulphur Springs Ranger District, Meagher and Cascade Counties, MT.

Summary: EPA supports improved grazing management, but expressed environmental concerns about continued impacts to water quality from delays in reducing grazing pressure (AUMs) on allotments with less than properly functioning streams for 3-5 years or longer. EPA recommends more timely implementation of grazing improvements, including AUM reductions, on allotments with non-functioning and functioning-at-risk streams.

ERP No. F-AFS-L65372-AK Threemile Timber Sale, Implementation, Petersburg Ranger District, Tongass National Forest, AK.

Summary: No comment letter was sent to the preparing agency.

ERP No. F-AFS-L65373-AK Gravina Island Timber Sale, Implementation, Timber Harvest and Related Activities, Ketchikan-Misty Fiords Ranger District, Tongass National Forest, AK.

Summary: The Final EIS responded to EPA's concerns by developing a new alternative that combined helicopter and land-based timber extraction and selecting an alternative that is less damaging to riparian areas and greatly limited road access, protecting deer habitat and intertidal areas which are subsistence resources for native Alaskans. EPA continues to have concerns about the adverse impacts to streams and wetlands, as well as cumulative impacts from roads and access to the roadless area.

ERP No. F-AFS-L65452-ID South Fork Wildfire Salvage Project, Harvesting Fire-Killed and Imminently Dead Trees, Cascade Ranger District, Boise National Forest, Valley County, ID.

Summary: No comment letter was sent to the preparing agency.

ERP No. F-BLM-L65446-AK Alpine Satellite Development Plan, Construction and Operation of Five Oil Production Pads, Associated Well, Roads, Airstrips, Pipelines and Powerlines, Authorization and Permits Issuance, Northeast corner of the National Petroleum Reserve-Alaska, Colville River Delta, North Slope Borough, AK.

Summary: EPA has environmental concerns about the Preferred Alternative (Alternative F). The Final EIS does not provide sufficient information, data, analyses, or discussion to ensure that all developmental components of the Preferred Alternative will meet the substantive environmental requirements of Clean Water Act Section 404. In addition, EPA has concerns about impacts from current road alignment design, disturbance from access to production pads, the potential for violation of Special Condition 10 of the Corps Permit, erosion from pad sidesloped, lack of specific mitigation measures, and insufficient 9 information regarding air quality impacts.

ERP No. F-COE-L32011-AK Akutan Harbor Navigation Improvements Project, Construction and Implementation, Bering Sea, City of Akutan, AK.

Summary: EPA agreed with U.S. Army Corps' conclusion that the project would not violate Alaska's water quality standards or exceed the Akutan Harbor TMDL load allocations. However, EPA reiterated objections to the direct and indirect effects on wetlands, and requested that the Corps explore offsite beneficial use options to the stockpiling of dredged material in wetlands. EPA also recommended that the Corps explore compensatory mitigation through wetland enhancements during detailed project design.

ERP No. F-NOA-E39066-FL Programmatic EIS—Seagrass Restoration in the Florida Keys National Marine Sanctuary, Implementation, U.S. Army COE Section 404 and CZMA Permits, Monroe County, FL.

Summary: EPA continues to fully support the proposed restoration goals for Seagrass damaged in FKNMS waters, but requests that some issues be clarified in the NOAA ROD.

Dated: October 26, 2004.
Robert W. Hargrove,
Director, NEPA Compliance Division, Office of Federal Activities.

[FR Doc. 04-24251 Filed 10-28-04; 8:45 am]

BILLING CODE 6560-50-P